DEPARTMENT OF ENERGY

Federal Energy Regulatory Commission

[Docket No. RP00-395-000]

Panhandle Eastern Pipe Line Company; Notice of Technical Conference

November 17, 2000.

On June 17, 2000, Panhandle Eastern Pipe Line Company (Panhandle) made a filing to comply with Order No. 637. Several parties have protested various aspects of Panhandle's filing. Take notice that a technical conference to discuss the various issues raised by Panhandle's filing will be held for two days, on Tuesday, January 9, 2001, from 10:00 a.m. to 5:00 p.m., and Wednesday, January 10, 2001, from 10:00 a.m. to 5:00 p.m., in a room to be designated at the offices of the Federal Energy Regulatory Commission, 888 First Street, N.E., Washington, D.C., 20426. Persons protesting aspects of Panhandle's filing should be prepared to answer questions and discuss alternatives.

All interested persons are permitted to attend. To assist Staff, Attendees are requested to e-mail Horatio.Cipkus@ferc.fed.us stating your name, the name of the entity you represent, the names of the persons who will be accompanying you, and a telephone number where you can be reached.

The issues to be discussed will include, but are not limited to:

A. Penalties

1. Penalty levels under non-extreme conditions

2. Reasons for scheduling variances

3. Information for shippers on scheduling variances

4. Trading of scheduling variances

5. SCT scheduling variances

6. Crediting of penalty revenues

B. Flexible Point Rights

1. Approval process for original requests for service

2. Approval process for release transactions with request for alternative primary points

3. Five-day waiting period

4. Effect of alternate primary points on original primary points

5. Termination of alternate points

6. Default provision for nominated quantities in excess of CD in overlapping segments

7. Point rights within 100-mile segments but outside the primary path

C. Imbalance Services

1. Information provided to shippers on a daily basis

2. Cost of imbalance management services

3. Imbalance netting and trading—operational impact areas

4. Delivery variance service

5. Third-party imbalance management services

D. OFOs

1. When an OFO will be used

2. Panhandle's powers under an OFO

3. Amount of notice

E. Segmentation

1. Areas in which segmentation is not operationally feasible

F. Discount Provisions

1. Extension of discounts to other points

The above schedule may be changed as circumstances warrant.

Linwood A. Watson, Jr.,
Acting Secretary.

[FR Doc. 00-29952 Filed 11-22-00; 8:45 am]

BILLING CODE 6717-01-M